DEPARTMENT OF COMMERCE

Census Bureau

Proposed Information Collection; Comment Request; Census Employment Inquiry

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before January 11, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Richard Liquorie at Richard.T.Liquorie@census.gov.

SUPPLEMENTARY INFORMATION:

I. Abstract

The BC-170 is used to collect information such as personal data and work experience from job applicants. Selecting officials review the information shown on the form to evaluate an applicant's eligibility for employment and to determine the best qualified applicants to fill Census jobs.

The BC-170 is used throughout the census and intercensal periods for the special census, one time or recurring survey operations and other decennial pretests. The Census Bureau uses different versions of the BC-170 in various circumstances to collect appropriate data from applicants. Applicants completing the form BC-170D for a census related position are applying for temporary jobs in office and field positions (clerks, enumerators, recruiting assistants, supervisors) during the Decennial Census and Decennial Census Tests. In addition, the BC-170A may be used when applying for temporary/permanent office and field positions (clerks, field representatives, supervisors) on a recurring survey in one of the Census Bureau's six Regional Offices (ROs) throughout the United States. The Form BC-170B is used for special censuses for temporary field and office positions (enumerators, clerks, supervisors).

The use of this form is limited to only situations which require the establishment of a temporary office and/or involve special, one-time or recurring survey operations at one of the ROs. The form has been demonstrated to meet our recruitment needs for temporary workers and requires significantly less burden than the Office of Personnel Management (OPM) Optional Forms that are available for use by the public when applying for Federal positions. There are no proposed changes to the BC-170A and BC-170B.

Changes to the BC-170D have been made to help support movement from a fully paper job application process to a mostly online job application process and to support changes to the selection and hiring processes for related positions. Specific changes include:

1. Adding a Prior Work Experience section to collect information about prior work experience.

2. Deleting background information that was previously collected at the time of application such as—convictions, imprisonment, probation, or parole in the last 7 years; convictions by a military court-martial in the past 7 years; current charges for any violation of the law; firings from any job for any reason, quitting after being told that you would be fired, leaving any job by mutual agreement because of specific problems, or debarred from Federal employment by the Office of Personnel Management or any other Federal agency during the past 5 years; and delinquency on any Federal debt.

3. Creating an optional section on the form for questions which are needed for research and evaluation purposes but not necessary for selection purposes. The optional section will collect the applicant's level of education, how the applicant found out about the job, and the information to help determine whether applicants may be willing and/or able to use their personal smartphone for work.

4. Adding questions to gain more detail about current Federal, State, Local, or Tribal government employment, which could pose a conflict of interest with census jobs.

5. Adding categories to clarify the type of work that an applicant might be interested in.

6. Clarifying and updating instructions on the cover pages of the form and item specific instructions, and the privacy act statement.

7. Reformatting/rewording questions/items for clarification purposes.

8. Formatting of questions for collection on a paper form and electronic online job application.

II. Method of Collection

The Census Bureau requests continued Office of Management and Budget (OMB) approval for the BC-170A, BC-170B, and the BC-170D, Census Employment Inquiry, along with modifications to the paper form BC-170D and the implementation of an online job application process, which will collect the same information as presented on the BC-170D.

III. Data

OMB Control Number: 0607-0139.

Form Number(s): BC-170A, BC-170B, and BC-170D.

Type of Review: Regular submission.

Affected Public: Individuals or Households.

Estimated Number of Respondents: 70,000.

Estimated Time per Response: 15 minutes.

Estimated Total Annual Burden Hours: 17,500.

Estimated Total Annual Cost to Public: $0.

Respondent's Obligation: Required to obtain or retain benefits.

Legal Authority: Title 13 U.S.C., Chapter 1, Subchapter II.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 6, 2015.
Glenna Mickelson,
Management Analyst, Office of the Chief Information Officer.

[FR Doc. 2015-28704 Filed 11-10-15; 8:45 am]

BILLING CODE 3510-07-P